NUCLEAR REGULATORY COMMISSION

[Docket No. 52-007]

Exelon Generation Company, LLC; Notice of Change in Location for Public Meeting the Draft Environmental Impact Statement for an Early Site Permit (ESP at the Exelon ESP Site

On March 10, 2005, the U.S. Nuclear Regulatory Commission (NRC, the Commission) issued a notice of availability of NUREG-1815, “Environmental Impact Statement for an Early Site Permit (ESP) at the Exelon ESP Site: Draft Report for Comment,” (70 FR 12022). In addition, the notice announced that the NRC staff will hold a public meeting on April 19, 2005 to present an overview of the draft environmental impact statement (DEIS) and to accept public comments on the document. Notice is hereby given that the public meeting will be held at a different location than that specified in the previous notice because of the potential number of attendees. The public meeting will be held at the Clinton Junior High School, 401 N. Center Street, Clinton, Illinois, 61727, on Tuesday, April 19, 2005. The meeting will convene at 7 p.m. and will continue until 10 p.m., as necessary. The meeting will be transcribed and will include: (1) A presentation of the contents of the DEIS, and (2) the opportunity for interested government agencies, organizations, and individuals to provide comments on the draft report. Additionally, the NRC staff will host informal discussions one hour before the start of the meeting at the high school. No formal comments on the DEIS will be accepted during the informal discussions. To be considered, comments must be provided either at the transcribed public meeting or in writing. Persons may register to attend or present oral comments at the meeting by contacting Ms. Harriet Nash, by telephone at 1-800-368-5642, extension 4100, or by Internet to the NRC at ClintonEIS@nrc.gov no later than April 13, 2005. Members of the public may also register to speak at the meeting within 15 minutes of the start of the meeting. Individual oral comments may be limited by the time available, depending on the number of persons who register. Members of the public who have not registered may also have an opportunity to speak, if time permits. Ms. Nash will need to be contacted no later than April 13, 2005, if special equipment or accommodations are needed to attend or present information at the public meeting, so that the NRC staff can determine whether the request can be accommodated.

FOR FURTHER INFORMATION CONTACT: Harriet Nash, License Renewal and Environmental Impacts Program, Division of Regulatory Improvement Programs, U.S. Nuclear Regulatory Commission, Washington, DC, 20555-0001. Ms. Nash may be contacted at the aforementioned telephone number or e-mail address.

Dated at Rockville, Maryland, this 31 day of March, 2004.
For the Nuclear Regulatory Commission.
Pao-Tsin Kuo,
Program Director, License Renewal and Environmental Impacts Program, Division of Regulatory Improvement Programs, Office of Nuclear Reactor Regulation.

[FR Doc. E5-1617 Filed 4-7-05; 8:45 am]

BILLING CODE 7590-01-P